DEPARTMENT OF ENERGY

Federal Energy Regulatory Commission

Notice of Application for Amendment of License and Soliciting Comments, Motions To Intervene, and Protests

September 5, 2001.

a. Type of Application: Application to Convey 6 Parcels totaling 13.66 Acres of Project Land for Residential Development.

b. Project No.: 516-354, 516-355, 516-356, 516-357, 516-358 and 516-359.

c. Date Filed: August 22, 2001.

d. Applicant: South Carolina Electric & Gas Company.

e. Name of Project: Saluda.

f. Location: The project is located in Saluda, Lexington, Newberry and Richland Counties, SC.

g. Filed Pursuant to: Federal Power Act, 16 U.S.C. 791(a)-825(r).

h. Applicant contact: Thomas G. Eppink, Esquire, Senior Attorney, South Carolina Electric & Gas Company, Legal Department—130, Columbia, SC 29218, (803) 217-9448 or, Beth Trump, Real Estate Coordinator, (803) 217-7912.

i. FERC Contact: Questions about this notice can be answered by Jack Hannula at (202) 219-0116. The Commission cannot accept comments, recommendations, motions to intervene or protests sent by e-mail; these documents must be filed as described below:

j. Deadline for filing comments and/or motions: 30 days from the issuance of this notice.

All documents (original and eight copies) should be filed with: David P. Boergers, Secretary, Federal Energy Regulatory Commission, 888 First Street, NE., Washington, DC 20426. Comments, terms and conditions, motions to intervene, and protests may be filed electronically via the Internet in lieu of paper. See 18 CFR 385.2001(a)(1)(iii) and the instructions on the Commission's web site (http://www.ferc.gov) under the “e-Filing” link.

The Commission's Rules of Practice and Procedure require all interveners filing documents with the Commissions to serve a copy of that document on each person whose name appears on the official service list for the project. Further, if an intervener files comments or documents with the Commission relating to the merits of an issue that may affect the responsibilities of a particular resource agency, they must also serve a copy of the document on the resource agency. Please include the project number (P-516-354, etc.) on any comments or motions filed.

k. Description of the Application: South Carolina Electric & Gas Company requests Commission approval to sell 6 parcels of project fringeland totaling 13.66 acres for residential development to:

Subdocket number | Buyer's name | Size in acres +/− | Location
-354 | Phil Hamby | 1.64 | Near Lands End Point (Harbor Heights), Lexington County.
-355 | Sam Wessinger | 1.92 | Near Bundrick Island (Beech Road), Lexington County.
-356 | Kirk Rumph | 2.39 | Near Harbor Watch Development, Lexington County.
-357 | Randy and Myra Moore | 0.59 | Near Newberry Shores Subdivision (Key Plantation Drive), Newberry County.
-358 | Scott Lominick | 0.57 | Near Newberry Shores Subdivision (Key Plantation Drive), Newberry County.
-359 | Cheryse Tapp | 6.55 | Near Saluda Shoals Subdivision (Riverbend Point Road), Saluda County.

l. Locations of the Application: A copy of the application is available for inspection and reproduction at the Commission's Public Reference Room, located at 888 First Street, NE, Room 2A, Washington DC, or by calling (202) 208-1371. This filing may also be viewed on http://www.ferc.gov using the “RIMS” link-select “Docket#” and follow the instructions (call (202) 208-2222 for assistance).

m. Individuals desiring to be included on the Commission's mailing list should so indicate by writing to the Secretary of the Commission.

Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified date for the particular application.

Any filings must bear in all capital letters the title “COMMENTS”, “RECOMMENDATION FOR TERMS AND CONDITIONS”, “PROTESTS”, or “MOTION TO INTERVENE”, as applicable, and the Project Number of the particular application to which the filing refers. A copy of any motion to intervene must also be served upon each representative of the Applicant specified in the particular application.

Federal, state, and local agencies are invited to file comments on the described application. A copy of the application may be obtained by agencies directly from the applicant. If an agency does not file comments within the time specified for filing comments, it will be presumed to have no comments. One copy of an agency's comments must also be sent to the Applicant's representatives.

David P. Boergers,
Secretary.

[FR Doc. 01-22720 Filed 9-10-01; 8:45 am]

BILLING CODE 6717-01-P